DEPARTMENT OF HOMELAND SECURITY

Federal Emergency Management Agency

[Docket ID: FEMA-2010-0047]

Agency Information Collection Activities: Proposed Collection; Comment Request, 1660-0047; Request for Federal Assistance Form—How To Process Mission Assignments in Federal Disaster Operations

AGENCY: Federal Emergency Management Agency, DHS.

ACTION: Notice; 60-day notice and request for comments; extension, without change, of a currently approved information collection; OMB No. 1660-0047; FEMA Form 010-0-7, Action Request Form; FEMA Form 010-0-8, Mission Assignment.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning the collection of information necessary to allow FEMA to support the needs of states during disaster situations through the use of other federal agency resources.

DATES: Comments must be submitted on or before October 26, 2010.

ADDRESSES: To avoid duplicate submissions to the docket, please use only one of the following means to submit comments:

(1) Online. Submit comments at http://www.regulations.gov under Docket ID FEMA-2010-0047. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2010-0047 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Muriel Glover, Emergency Management Specialist, Response Directorate, Business Management Division, Federal Emergency Management Agency, (202) 646-4180 for additional information. You may contact the Records Management Division for copies of the proposed collection of information at facsimile number (202) 646-3347 or e-mail address: FEMA-Information-Collections-Management@dhs.gov.

SUPPLEMENTARY INFORMATION: Under Section 653 of the Robert T. Stafford Disaster Relief and Emergency Assistance Act (42 U.S.C. 5121 et seq), FEMA is authorized to provide assistance to States based on needs before, during and after a disaster has impacted the state. Information collected explains which State(s) require assistance, what needs to be accomplished, details any resource shortfalls, and explains what assistance is required to meet these needs. Title 44 CFR 206.5 provides the mechanism by which FEMA collects the information necessary to determine what resources are needed and if a mission assignment is appropriate.

Collection of Information

Title: Request for Federal Assistance Form—How to Process Mission Assignments in Federal Disaster Operations.

Type of Information Collection: Extension, without change, of a currently approved information collection.

OMB Number: 1660-0047.

Form Titles and Numbers: FEMA Form 010-0-7, Action Request Form; FEMA Form 010-0-8, Mission Assignment.

Abstract: If, during the course of a State's response to a disaster, the State determines that its capacity to respond exceeds its available resources, a request to FEMA for assistance can be made. This request documents how the response requirements exceed the capacity for the State to respond to the situation on its own and what type of assistance is required. FEMA reviews this information and can task other Federal Agencies with a mission assignment to assist the State in its response to the situation.

Affected Public: State, local or Tribal Government.

Estimated Total Annual Burden Hours: 9,620 hours.

Estimated Annualized Burden Hours and Costs
Type of respondent | Form name/form number | Number of respondents | Number of responses per respondent | Total number of responses | Avg. burden per response (in hours) | Total annual burden (in hours) | Avg. hourly wage rate | Total annual respondent cost
State, local or Tribal Government | Action Request Form/FF 010-0-7 | 10 | 640 | 6,400 | .33 | 2,133.33 | $56.69 | $120,938
State, local or Tribal Government | Mission Assignment/FF 010-0-8 | 10 | 320 | 3,200 | .05 | 160 | 56.69 | 9,070
State, local or Tribal Government | Training/No Form | 10 | 2 | 20 | 8 | 160 | 56.69 | 9,070
Total |  | 10 |  | 9,620 |  | 2,453.33 |  | 139,078

Estimated Cost: There are no operation and maintenance, or capital and start-up costs associated with this the collection of information.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: Augsut 24, 2010.
Tammi Hines,
Acting Director, Records Management Division, Mission Support Bureau, Federal Emergency Management Agency, Department of Homeland Security.

[FR Doc. 2010-21434 Filed 8-26-10; 8:45 am]

BILLING CODE 9111-24-P